DEPARTMENT OF THE INTERIOR

Fish and Wildlife Service

[FWS-R2-ES-2012-N148; FXES11130200000F5-123-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. The Act and the National Environmental Policy Act also require that we invite public comment before issuing these permits.

DATES: To ensure consideration, written comments must be received on or before August 22, 2012.

ADDRESSES: Marty Tuegel, Section 10 Coordinator, by U.S. mail at Division of Endangered Species, U.S. Fish and Wildlife Service, P.O. Box 1306, Room 6034, Albuquerque, NM at (505) 248-6920. Please refer to the respective permit number for each application when submitting comments.

FOR FURTHER INFORMATION CONTACT: Susan Jacobsen, Chief, Endangered Species Division, P.O. Box 1306, Albuquerque, NM 87103; (505) 248-6651.

SUPPLEMENTARY INFORMATION:

Public Availability of Comments

The Act (16 U.S.C. 1531 et seq.) prohibits activities with endangered and threatened species unless a Federal permit allows such activities. Along with our implementing regulations in the Code of Federal Regulations (CFR) at 50 CFR 17, the Act provides for permits, and requires that we invite public comment before issuing these permits. A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies, and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-039571

Applicant: Garcia and Associates, Arcata, California.

Applicant requests a new permit for research and recovery purposes to conduct presence/absence surveys for southwestern willow flycatcher (Empidonax traillii extimus) within Arizona, California, and Nevada.

Permit TE-841359

Applicant: U.S. Department of Agriculture, Gila National Forest, Silver City, New Mexico.

Applicant requests an amendment to a current permit for research and recovery purposes to conduct presence/absence surveys and monitoring of loach minnow (Tiaroga cobitis) and spikedace (Meda fulgida) within New Mexico.

Permit TE-819471

Applicant: SWCA, Inc., Salt Lake City, Utah.

Applicant requests a renewal to a current permit for research and recovery purposes to conduct presence/absence surveys of black-footed ferret (Mustela nigripes), Kanab ambersnail (Oxyloma haydeni kanabensis), southwestern willow flycatcher (Empidonax trailii extimus), and Yuma clapper rail (Rallus longirostris yumanensis) within Arizona, Nevada, and Utah.

Permit TE-028605

Applicant: SWCA, Inc., Flagstaff, Arizona.

Applicant requests an amendment to a current permit for research and recovery purposes to conduct presence/absences surveys of loach minnow (Tiaroga cobitis) and spikedace (Mega fulgida) within Arizona.

Permit TE-054791

Applicant: Bryce Marshall, Flagstaff, Arizona.

Applicant requests an amendment to a current permit for research and recovery purposes to conduct presence/absences surveys of loach minnow (Tiaroga cobitis) and spikedace (Mega fulgida) within Arizona.

Permit TE-045236

Applicant: SWCA, Inc., Albuquerque, New Mexico.

Applicant requests an amendment to a current permit for research and recovery purposes to conduct presence/absences surveys of loach minnow (Tiaroga cobitis) and spikedace (Mega fulgida) within Arizona.

Permit TE-814829

Applicant: Oklahoma Department of Wildlife Conservation, Oklahoma City, Oklahoma.

Applicant requests a renewal to a current permit for research and recovery purposes to conduct presence/absence surveys of the following species within Oklahoma:

• American burying beetle (Nicrophorus americanus)

• Interior least tern (Sternula antillarum)

• Red-cockaded woodpecker (Picoides borealis)

• Whooping crane (Grus americana)

Permit TE-094375

Applicant: Azimuth Forestry Services, Shelbyville, Texas.

Applicant requests an amendment to a current permit for research and recovery purposes to conduct presence/absence surveys and collect plant material (leaves, flowers) of white bladderpod (Physaria pallida) within Texas.

Permit TE-75972A

Applicant: Western New Mexico University, Silver City, New Mexico.

Applicant requests a new permit for research and recovery purposes to conduct presence/absence surveys and monitoring for repatriation of loach minnow (Tiaroga cobitis) and spikedace (Mega fulgida) within New Mexico.

Permit TE-012642

Applicant: Blue Earth Ecological Consultants, Santa Fe, New Mexico.

Applicant requests an amendment to a current permit for research and recovery purposes to conduct presence/absence surveys of southwestern willow flycatcher (Empidonax trailii extimus) in Arizona and spikedace (Mega fulgida) within New Mexico and Arizona.

Permit TE-77222A

Applicant: Clinton Moran, Flagstaff, Arizona.

Applicant requests a new permit for research and recovery purposes to acquire 500 fertilized eggs from the Bubbling Ponds Native Fish Hatchery in Arizona, which will be reared to conduct feeding and swimming trials at Nothern Arizona University, Arizona.

Permit TE-58781A

Applicant: University of Arizona, Tucson, Arizona.

Applicant requests an amendment to a current permit for research and recovery purposes to conduct presence/absence surveys using camera surveys, scat collection, possession of samples for DNA analysis, and genetic analysis for ocelot (Leopardus pardalis), jaguarundi (Herpailurus yagouaroundi), and jaguar (Panthera onca) within New Mexico.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: July 11, 2012.
Benjamin N. Tuggle,
Regional Director, Southwest Region.

[FR Doc. 2012-17873 Filed 7-20-12; 8:45 am]

BILLING CODE 4310-55-P